EXPORT-IMPORT BANK OF THE UNITED STATES

[Public Notice 100]

Agency Information Collection Activities: Comment Request

AGENCY: Export-Import Bank of the United States.

ACTION: Notice and request for comments.

SUMMARY: The Export-Import Bank of the United States (“Ex-Im Bank”) is seeking approval of the proposed information collection described below. Ex-Im Bank provides insurance for the financing of exports of goods and services. This collection allows insured parties and insurance brokers to report overdue payments from the borrower.

SUPPLEMENTARY INFORMATION: This notice is soliciting comments from the public concerning the proposed collection of information to (1) evaluate whether the proposed collection is necessary for the performance of the functions of the agency, including whether the information will have practical utility; (2) evaluate the accuracy of the agency's estimate of the burden of the proposed collection of information; (3) enhance the quality, utility, and clarity of the information to be collected; and minimize the burden of collection of information on those who are to respond, including through the use of appropriate automated collection techniques or other forms of information technology.

DATES: Written comments should be received on or before October 19, 2007 to be assured of consideration.

ADDRESSES: Direct all comments or requests for additional information to Terry M. Faith, Export-Import Bank of the U.S., 811 Vermont Avenue, NW., Washington, DC 20571, (202) 563-3607, Terry.M.Faith@exim.gov.

Titles and Form Numbers:

Export-Import Bank of the United States Report of Overdue Accounts Under Short-Term Policies, EIB 92-27.

Export-Import Bank of the United States Report of Overdue Accounts Under Medium-Term Credit Insurance Policies, EIB 92-28.

OMB Number: None.

Type of Review: Regular.

Need and Use: The information requested enables insured parties and insurance brokers to report overdue payments from the borrower.

Affected Public: Insured parties and brokers.

| EIB 92-27 | EIB 92-28
Estimated Annual Responses | 396 | 820.
Estimated Time Per Response | 15 minutes | 15 minutes.
Estimated Annual Burden | 99 hours | 205 hours.

Frequency of Response: One form per reporting.

Dated: August 13, 2007.
Solomon Bush,
Agency Clearance Officer.

[FR Doc. 07-4037 Filed 8-17-07; 8:45 am]

BILLING CODE 6690-01-M